DEPARTMENT OF HEALTH AND HUMAN SERVICES

Administration for Children and Families

Submission for OMB Review; Comment Request

Title: Order to Withhold Income for Child Support and Notice of an Order to Withhold Income for Child Support.

OMB No.: 0970-0154.

Description: Public Law 104-193, the Personal Responsibility and Work Opportunity Reconciliation Act (PRWORA) of 1996, section 324 requires the Federal Office of Child Support Enforcement (OCSE) to develop a standardized form to collect child support payments from an obligor's employer.

The form, which promotes standardization, is used for IV-D and non-IV-D cases that require income withholding. We are revising the form to make it more universal for tribal governments and other uses. This two-page form provides a detailed legal description of established child support orders, support amounts, and remittance information that an employer needs to withhold payments from an obligor who owes child support.

Respondents: States and territories.

Annual Burden Estimates:

Instrument | Number of respondents | Average number of responses per respondent | Average burden hours per response | Total burden hours
Order to Withhold Income for Child Support and Notice to Withhold Income for Child Support | 54 | 216,100 | .084 | 980,230
Estimated Total Annual Burden Hours: |  |  |  | 980,230

Additional Information: Copies of the proposed collection may be obtained by writing to the Administration for Children and Families, Office of Administration, Office of Information Services, 370 L'Enfant Promenade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF; e-mail address: katherine_t._astrich@omb.eop.gov.

Dated: March 18, 2004.
Robert Sargis,
Reports Clearance Officer.

[FR Doc. 04-6670 Filed 3-24-04; 8:45 am]

BILLING CODE 4184-01-M